DEPARTMENT OF AGRICULTURE

Rural Utilities Service

7 CFR Part 1779

Rural Housing Service

7 CFR Part 3575

Rural Business—Cooperative Service

Rural Utilities Service

7 CFR Parts 4279 and 4280

Rural Business—Cooperative Service

Rural Housing Service

Rural Utilities Service

7 CFR Part 5001

[FR Doc. E8-29151]

RIN 0570-AA65

Rural Development Guaranteed Loans

AGENCIES: Rural Business—Cooperative Service, Rural Housing Service, Rural Utilities Service, USDA.

ACTION: Interim rule; delay of the effective date.

SUMMARY: Rural Development is delaying the effective date of the interim rule for Rural Development Guaranteed Loans, which was published on December 17, 2008. The interim rule establishes a unified guaranteed loan platform for the enhanced delivery of four existing Rural Development guaranteed loan programs—Community Facility; Water and Waste Disposal; Business and Industry; and Renewable Energy Systems and Energy Efficiency Improvement Projects.

DATES: This effective date of the interim rule, published on December 17, 2008 [73 FR 76698], is delayed from January 16, 2009, until February 17, 2009.

FOR FURTHER INFORMATION CONTACT: Mr. Michael Foore, Rural Development, Business and Cooperative Programs, U.S. Department of Agriculture, 1400 Independence Avenue, SW., Stop 3201, Washington, DC 20250-3201; e-mail: Michael.Foore@wdc.usda.gov; telephone (202) 690-4730.

SUPPLEMENTARY INFORMATION: Rural Development has identified a technical error associated with the publication of the interim rule, in which 7 CFR Parts 1779 and 3575 were mistakenly repealed. These two parts, which are the regulations for the Community Facilities and Water and Waste Disposal guaranteed loan programs, should not have been repealed at this time because, in part, there are other Community Facilities and Water and Waste Disposal regulations that cross-reference these two parts. Rural Development considered publishing a technical correction notice to reinstate these two regulations. Due to time constraints for publication in the Federal Register prior to the effective date of January 16, 2009, there was insufficient time for full consideration of these technical corrections. Therefore, Rural Development determined that the best course of action was to delay the effective date of the interim rule by 30 days.

Dated: January 9, 2009.
Doug Faulkner,
Acting Under Secretary for Rural Development.

[FR Doc. E9-813 Filed 1-15-09; 8:45 am]

BILLING CODE 3410-XY-P